DEPARTMENT OF ENERGY

Federal Energy Regulatory Commission

[Docket No. EC02-112-000, et al.]

Aquila, Inc., et al.; Electric Rate and Corporate Regulation Filings

September 10, 2002.

The following filings have been made with the Commission. The filings are listed in ascending order within each docket classification.

1. Aquila, Inc. and MidAmerican Energy Company

[Docket No. EC02-112-000]

Take notice that on September 3, 2002, Aquila, Inc. (Aquila) and MidAmerican Energy Company (MidAmerican) , filed an application with the Federal Energy Regulatory Commission (Commission) pursuant to Section 203 of the Federal Power Act, 16 U.S.C. “ 824b, and Part 33 of the Commission regulations, 18 CFR Part 33. Aquila and MidAmerican request authorization and approval of the sale by Aquila and the purchase by MidAmerican of a portion of an electrical transmission line and related assets located in the state of Missouri.

Comment Date: September 24, 2002.

2. CMS Marketing, Services and Trading Company

[Docket No. ER96-2350-023]

Take notice that on September 5, 2002 CMS Marketing, Services and Trading Company tendered for filing, an updated market power analysis in accordance with the order issued by the Federal Energy Regulatory Commission dated September 6, 1996, in Docket No. ER96-2350-000.

Comment Date: September 26, 2002.

3. Casco Bay Energy Company, LLC

[Docket No. ER99-3822-002]

Take notice that on September 4, 2002, Casco Bay Energy Company, LLC (Casco Bay) tendered for filing its triennial market power analysis in compliance with the Commission Order granting it market-based rate authority in Docket No. ER99-3882-000. Copies of this filing were served upon those parties on the official service list.

Comment Date: September 25, 2002.

4. Nevada Power Company

[Docket No. ER02-1913-003]

Take notice that on September 5, 2002, Nevada Power Company tendered for filing its compliance filing making the changes to the unexecuted Interconnection and Operation Agreement between Nevada Power Company and GenWest, LLC required by the Commission's July 19, 2002 Order in this docket. This compliance filing makes corrections to the previous compliance filing submitted on August 16, 2002.

Comment Date: September 26, 2002.

5. American Electric Power Service Corporation

[Docket No. ER02-2028-002]

Take notice that on September 4, 2002, the American Electric Power Service Corporation (AEPSC) tendered for filing amended Firm Point-to-Point Transmission (PTP) Service Agreements and Long-Term Firm PTP Service Agreement Specifications for AEPSC's Wholesale Power Merchant Organization and Constellation Power Source, Inc. in compliance with the Order on Complaint and Accepting Service Agreements for Filing as Modified, Docket No. ER02-2028-000, issued August 5, 2002, 100 FERC ¶ 61,157 (2002). The agreements are pursuant to the AEP Companies' Open Access Transmission Service Tariff (OATT) that has been designated as the Operating Companies of the American Electric Power System FERC Electric Tariff Second Revised Volume No. 6, effective June 15, 2000.

AEP requests an effective date of June 1, 2002.

A copy of the filing was served upon the customers and the state utility regulatory commissions of Arkansas, Indiana, Kentucky, Louisiana, Michigan, Ohio, Oklahoma, Tennessee, Texas, Virginia and West Virginia.

Comment Date: September 25, 2002.

6. New England Power Pool

[Docket No. ER02-2532-000]

Take notice that on August 30, 2002, the New England Power Pool (NEPOOL) Participants Committee filed for acceptance materials to permit NEPOOL to expand its membership to include Hess Energy Power & Gas Company, LLC (HEPGCO), and to terminate the memberships of Connecticut Energy Cooperative, Inc. (the Co-op). The Participants Committee requests a September 1, 2002 effective date for commencement of participation in NEPOOL by HEPGCO and for the termination of the Co-op.

The Participants Committee states that copies of these materials were sent to the New England state governors and regulatory commissions and the Participants in NEPOOL.

Comment Date: September 20, 2002.

7. Sierra Pacific Power Company Nevada Power Company

[Docket No. ER02-2533-000]

Take notice that on September 3, 2002 Sierra Pacific Power Company and Nevada Power Company (jointly Operating Companies) tendered for filing with the Federal Energy Regulatory Commission (Commission) a Service Agreements (Service Agreements) with NRG Power Marketing, Inc. and IDACORP Energy L.P. for Non-Firm and Short-Term Firm Point-to-Point Transmission Service under Sierra Pacific Resources Operating Companies FERC Electric Tariff, First Revised Volume No. 1, Open Access Transmission Tariff (Tariff):

The Operating Companies are filing the executed Service Agreement with the Commission in compliance with Sections 13.4 and 14.4 of the Tariff and applicable Commission regulations. The Operating Companies also submitted revised Sheet No. 195A (Attachment E) to the Tariff, which is an updated list of current subscribers. The Operating Companies request waiver of the Commission's notice requirements to permit an effective date of September 3, 2002 for Attachment E, and to allow the Service Agreement to become effective according to their terms.

Copies of this filing were served upon the Public Utilities Commission of Nevada, the Public Utilities Commission of California and all interested parties.

Comment Date: September 20, 2002.

8. Ameren Services Company

[Docket No. ER02-2534-000]

Take notice that on August 30, 2002, Ameren Services Company (ASC) tendered for filing an unexecuted Long-Term Firm Point-to-Point Service Agreement between ASC and Illinois Municipal Electric Agency. ASC asserts that the purpose of the Agreement is to permit ASC to provide transmission service to the Illinois Municipal Electric Agency pursuant to Ameren's Open Access Transmission Tariff.

Comment Date: September 20, 2002.

9. Public Service Company of New Mexico

[Docket No. ER02-2535-000]

Take notice that on August 30, 2002, Public Service Company of New Mexico (PNM) submitted for filing a Letter Agreement, dated April 11, 2002, regarding the Interconnection Agreement (Agreement) between Southwestern Public Service Company (SPS) and PNM (the Parties) dated November 23, 1982. The Letter Agreement clarifies the understanding of the Parties with respect to new interconnections to the transmission facilities that interconnect the two utilities, as such new interconnections relate to prior letter agreements regarding that same topic. The Agreement (as amended from time to time) and prior letter agreements are already on file at the FERC as PNM Rate Schedule FERC No. 53, but have not been conformed to the FERC “Identification and Numbering” requirements set forth in FERC Order No. 614, and PNM has therefore included a first revised copy of the Agreement with proper “Identification and Numbering” in this filing and has incorporated the April 11, 2002 Letter Agreement as a part thereof. PNM is requesting waiver of the Commission's notice requirements in order to allow the Letter Agreement to become effective retroactively to April 11, 2002, its execution date, and that the entire Interconnection Agreement be designated PNM First Revised Rate Schedule FERC No. 53. PNM's filing is available for public inspection at its offices in Albuquerque, New Mexico.

Copies of the filing have been sent to SPS, the New Mexico Public Regulation Commission, and the New Mexico Attorney General.

Comment Date: September 20, 2002.

10. Bank of America, N.A.

[Docket No. ER02-2536-000]

Take notice that on September 3, 2002, Bank of America, N.A. (Bank of America) petitioned the Federal Energy Regulatory Commission (Commission) for acceptance of Bank of America Rate Schedule FERC No. 1; the granting of certain blanket approvals, including the authority to sell electricity at market-based rates; and the waiver of certain Commission regulations.

Bank of America intends to engage in wholesale electric power and energy transactions as a marketer and a broker. Bank of America is not in the business of generating or transmitting electric power. Bank of America is a national banking association formed under the laws of the United States of America with its principal executive offices in Charlotte, North Carolina. In transactions where Bank of America sells electric power it proposes to make such sales on rates, terms and conditions to be mutually agreed to with the purchasing party.

Bank of America requests that the Commission confirm that the Bank of America may provide capital to public utilities in the course of its banking activities, without raising concerns that it would thereby acquire control over the management or operations of those utilities. Bank of America requests that the Commission confirm that the:

Applicant is authorized to acquire the securities of a public utility in the course of its banking business provided that such acquisition confers upon applicant no right to control the management or operation of such public utility, other than pursuant to customary creditors' rights or to the rights provided by the United States Bankruptcy Code.

Bank of America would remain subject to the strictures of Section 203(a) that would require Commission approval to acquire control over any public utility.

Comment Date: September 24, 2002.

11. Virginia Electric and Power Company

[Docket No. ER02-2537-000]

Take notice that Virginia Electric and Power Company (the Dominion Virginia Power or Company) on September 4, 2002, respectfully tendered a Retail Energy Imbalance Service Schedule 4R under the Company's Open Access Transmission Tariff (OATT).

The Company respectfully requests that the Commission waive the 60-day notice requirement and allow the proposed schedule to be effective January 1, 2002. Copies of the filing were served upon the Virginia State Corporation Commission, the North Carolina Utilities Commission, Washington Gas Energy Services, Old Mill Power Company, Dominion Retail, Inc., AES New Energy, Inc., and Old Dominion Electric Cooperative.

Comment Date: September 25, 2002.

12. West Penn Power Company

[Docket No. ER02-2538-000]

Take notice that on September 3, 2002, Allegheny Energy Service Corporation on behalf of West Penn Power Company (West Penn), submitted Notices of Cancellation of Second Revised Service Agreement No. 1, Service Agreement No. 3, and First Revised Service Agreement No. 10 (including their Amendments and Supplements) with Allegheny Electric Cooperative, Inc., the Borough of Mont Alto, and the Borough of Chambersburg, respectively (Customers), customers under West Penn's Rate Schedule designated as FERC Electric Tariff, First Revised Volume No. 1.

West Penn has requested that the cancellations be effective December 1, 2002. Copies of the filing have been provided to the Customers and to the Pennsylvania Public Utility Commission.

Comment Date: September 24, 2002.

13. PJM Interconnection, L.L.C.

[Docket No. ER02-2539-000]

Take notice that on August 30, 2002, PJM Interconnection, L.L.C. (PJM) filed amendments to Schedules 4 and 7 of the Reliability Agreement Among Load Serving Entitles in the PJM Control Area 9RAA) to change the basis for determining the Forecast Pool Requirement and Accounted-For Obligations in the PJM control area.

Copies of this filing were served upon all partied to the RAA and each state electric utility regulatory commission in the PJM region.

Comment Date: September 20, 2002.

14. PJM Interconnection, L.L.C.

[Docket No. ER02-2540-000]

Take notice that on September 4, 2002 PJM Interconnection, L.L.C. (PJM), submitted for filing an executed interconnection service agreements between PJM and Repauno Products, LLC (Repauno).

PJM requests a waiver of the Commission's 60-day notice requirement to permit the effective date agreed to by the parties. Copies of this filing were served upon Repauno and the state regulatory commissions within the PJM region.

Comment Date: September 25, 2002.

15. Midwest Independent Transmission System Operator, Inc.

[Docket No. ER02-2541-000]

Take notice that on September 5, 2002, the Midwest Independent Transmission System Operator, Inc. (Midwest ISO) tendered for filing revisions to the Midwest ISO Open Access Transmission Tariff (OATT) seeking authorization to amend credit-related financial practices contained in the OATT. The Midwest ISO has requested an effective date of November 4, 2002.

The Midwest ISO seeks waiver of the Commission's regulations, 18 CFR 385.2010 with respect to service on all required parties. The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: September 26, 2002.

16. California Independent System Operator Corporation

[Docket No. ER02-2542-000]

Take notice that, on September 5, 2002, the California Independent System Operator Corporation (ISO) submitted an informational filing as to the ISO's updated transmission Access Charge rates effective as of September 1, 2002.

The ISO states that this filing has been served upon the Public Utilities Commission of the State of California, the California Energy Commission, the California Electricity Oversight Board, the Participating Transmission Owners, and upon all parties with effective Scheduling Coordinator Service Agreements under the ISO Tariff. In addition, the ISO is posting the filing on the ISO Home Page.

Comment Date: September 26, 2002.

17. Virginia Electric and Power Company

[Docket No. ER02-2543-000]

Take notice that Virginia Electric and Power Company (the Company) on September 6, 2002, respectfully tendered for filing the following Long-Term Service Agreement between Virginia Electric and Power Company and the Town of Enfield, North Carolina, designated as Long-Term Service Agreement No. 6, under the Company's Wholesale Cost-Based Rate Tariff, FERC Electric Tariff, Original Volume No. 7, effective on January 16, 2002.

The Company respectfully requests that the Agreement become effective on the effective date of January 1, 2003. Copies of the filing were served upon the Town of Enfield, North Carolina, the Virginia State Corporation Commission, and the North Carolina Utilities Commission.

Comment Date: September 27, 2002.

18. CED Rock Springs, Inc.

[Docket No. ER02-2546-000]

Take notice that on September 6, 2002, CED Rock Springs, Inc. (CEDRS) tendered for filing an application for an order accepting its FERC Electric Rate Schedule No. 1, granting certain blanket approvals, including the authority to sell electricity at market-base rates, and waiving certain regulations of the Commission. CEDRS also filed its FERC Electric Rate Schedule No. 1, seeking an effective date of October 10, 2002.

Comment Date: September 27, 2002.

19. Central Hudson Gas & Electric Corporation

[Docket Nos. OA97-470-065, ER97-1523-070 and ER97-4234-063]

Take notice that on September 3, 2002, Niagara Mohawk Power Corporation, a National Grid Company and one of the Member Systems of the Transmission Owners Committee of the Energy Association of the State of New York (the Member Systems) submitted a Compliance Filing with the Federal Energy Regulatory Commission (Commission) pursuant to the Commission's Opinion No. 457 issued in these proceedings on July 2, 2002 and the Commission's Notice of Extension of Time issued in these proceedings on August 15, 2002.

Comment Date: September 24, 2002

20. CED Rock Springs, Inc., Rock Springs Generation, LLC

[Docket No. OA02-9-000]

Take notice that on August 30, 2002, CED Rock Springs, Inc. and Rock Springs Generation, LLC filed with the Federal Energy Regulatory Commission (Commission) a request for expedited order confirming compliance with Order Nos. 888 and 889, or in the alternative, for partial waiver of Order No. 889.

Rock Springs Generation Facility (to be located in Rock Springs, Maryland) will be interconnected to the PJM Transmission System. Testing of the Facility is scheduled to commence mid-October 2002 so that commercial operation can occur in December 2002.

Comment Date: September 30, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-23661 Filed 9-17-02; 8:45 am]

BILLING CODE 6717-01-P